DEPARTMENT OF ENERGY

Federal Energy Regulatory Commission

[Docket No. CP03-342-000]

Discovery Gas Transmission, LLC; Notice of Intent to Prepare An Environmental Assessment for the Proposed Market Expansion Project and Request for Comments on Environmental Issues

October 8, 2003.

The staff of the Federal Energy Regulatory Commission (FERC or Commission) will prepare an environmental assessment (EA) that will discuss the environmental impacts of the Market Expansion Project (Project) involving construction and operation of facilities by Discovery Gas Transmission, LLC (Discovery) in LaFourche and Terrebone Parishes, Louisiana.¹ These facilities would consist of construction of about 2.6 miles of various diameter pipeline, an interconnection facility, related metering and pressure regulation facilities and the purchase of approximately 32 miles of existing pipeline from DPH, Inc and Discovery Producer Services, LLC (DPS). This EA will be used by the Commission in its decision-making process to determine whether the project is in the public convenience and necessity.

¹ Discovery's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Discovery provided to landowners. This fact sheet addresses a number of typically asked questions, including the use of eminent domain and how to participate in the Commission's proceedings. It is available for viewing on the FERC Internet Web site (http://www.ferc.gov).

Summary of the Proposed Project

Discovery proposes to construct, install operate and maintain pipelines and meter stations at four different sites in Lafourche and Terrebone Parish, Louisiana. Discovery states that it proposes to acquire approximately 31.5 miles of existing pipeline (line 40E) from DPH, Inc., of which 22.8 miles will be used to provide the necessary interconnections, acquire approximately 0.4 miles of existing pipeline from DPS, and abandon approximately 8.8 miles of 20-inch pipeline.

Discovery would install the following facilities:

• 735 feet of 20-inch diameter pipeline from the existing 40E pipeline to the existing Tennessee platform located in Old Lady Lake in Terrebone Parish Louisiana. The interconnect construction would require exposing and lifting 1000 feet of the existing 40E pipeline.

• Installation of a new 40-foot by 40-foot meter platform at the 40E pipeline near Point Au Chien, in Terrebone Parish Louisiana.

• Installation of approximately 2.1 miles of 20-inch diameter pipeline running from the 40E pipeline to a new 40-foot by 40-foot platform near Isle de Jean Charles to connect with the existing Columbia Gulf Pipeline.

• Installation of 1840 feet of new 20-inch pipeline near Larose, in Lafourche Parish Louisiana.

• Construction of a new meter station near Thibodaux, in LaFourche Parish Louisiana along with 150 feet of interconnection pipeline to deliver to the Transcontinental Gas Pipe Line Corporation's system.

• Discovery also proposes to abandon approximately 8.8 miles of currently decommissioned 20-inch diameter 40E pipeline from the current Old Lady Lake Platform south to the Lake Barre platform in the Caillou Island Field. A 20-inch diameter weld cap could be installed after the introduction of a nitrogen gas blanket in the line.

The general location of the project facilities is shown in appendix 1.² If you are interested in obtaining detailed maps of a specific portion of the project, send in your request using the form in appendix 3.

² The appendices referenced in this notice are not being printed in the Federal Register. Copies of all appendices, other than appendix 1 (maps), are available on the Commission's website at the “eLibrary” link or from the Commission's Public Reference and Files Maintenance Branch, 888 First Street, NE., Washington, DC 20426, or call (202) 502-8371. For instructions on connecting to eLibrary refer to the last page of this notice. Copies of the appendices were sent to all those receiving this notice in the mail.

Land Requirements for Construction

Construction of the proposed facilities would require about 20.8 acres of land. Following construction, about 11.2 acres would be maintained as new aboveground facility sites. The remaining 9.6 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• geology and soils

• land use

• water resources, fisheries, and wetlands

• cultural resources

• vegetation and wildlife

• air quality and noise

• endangered and threatened species

• hazardous waste

• public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP03-342-000.

• Mail your comments so that they will be received in Washington, DC on or before November 10, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact 1-866-208-3676, TTY (202) 502-8659, or at FERCOnlineSupport@ferc.gov. The eLibrary link on the FERC Internet website also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Magalie R. Salas,
Secretary.

[FR Doc. E3-00065 Filed 10-15-03; 8:45 am]

BILLING CODE 6717-01-P